DEPARTMENT OF JUSTICE

Antitrust Division

Notice Pursuant to the National Cooperative Research and Production Act of 1993—Electrified Vehicle and Energy Storage Evaluation—II

Notice is hereby given that, on April 3, 2025, pursuant to section 6(a) of the National Cooperative Research and Production Act of 1993, 15 U.S.C. 4301 et seq. (“the Act”), Electrified Vehicle and Energy Storage Evaluation—II (“EVESE II”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: BAE Systems Controls Inc., Endicott, NY; Castrol Limited, Reading, UNITED KINGDOM; Ford Motor Company, Dearborn, MI; Honda Development & Manufacturing of America, LLC, Marysville, OH; and Komatsu America Corp, Chicago, IL. The general area of EVESE II's planned activities are to develop enhanced understanding of battery energy storage systems for both vehicular and non-vehicular applications. Research considers both normal (cycling) and abnormal (abuse) use cases of lithium-ion batteries, and work will be performed in three broad areas: cell, module and applications.

Suzanne Morris,
Deputy Director Civil Enforcement Operations, Antitrust Division.

[FR Doc. 2025-10774 Filed 6-12-25; 8:45 am]

BILLING CODE P